DEPARTMENT OF COMMERCE

Foreign-Trade Zones Board

[Order No. 1855]

Reorganization of Foreign-Trade Zone 151 Under Alternative Site Framework Findlay, Ohio

Pursuant to its authority under the Foreign-Trade Zones Act of June 18, 1934, as amended (19 U.S.C. 81a-81u), the Foreign-Trade Zones Board (the Board) adopts the following Order:

Whereas, the Board adopted the alternative site framework (ASF) (74 FR 1170, 01/12/09; correction 74 FR 3987, 01/22/09; 75 FR 71069-71070, 11/22/10) as an option for the establishment or reorganization of zones;

Whereas, the Findlay/Hancock County Chamber of Commerce, grantee of Foreign-Trade Zone 151, submitted an application to the Board (FTZ Docket 20-2012, filed 3/20/2012) for authority to reorganize under the ASF with a service area of Hardin, Putnam, Seneca, Allen and Hancock Counties, Ohio, adjacent to the Toledo Customs and Border Protection port of entry, and FTZ 151's existing Sites 1 and 3 would be categorized as magnet sites;

Whereas, notice inviting public comment was given in the Federal Register (77 FR 17408-17409, 3/26/2012) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to reorganize FTZ 151 under the alternative site framework is approved, subject to the FTZ Act and the Board's regulations, including Section 400.13, to the Board's standard 2,000-acre activation limit for the zone, and to a five-year ASF sunset provision for magnet sites that would terminate authority for Site 3 if not activated by August 31, 2017.

Signed at Washington, DC, this 29th day of August 2012.
Paul Piquado,
Assistant Secretary of Commerce for Import Administration, Alternate Chairman, Foreign-Trade Zones Board.
Attest:
Andrew McGilvray,
Executive Secretary.

[FR Doc. 2012-22114 Filed 9-6-12; 8:45 am]

BILLING CODE P